DEPARTMENT OF TRANSPORTATION

Federal Aviation Administration

14 CFR Parts 11, 21, 43, and 107

[Docket No. FAA-2018-1087]

RIN 2120-AK85

Operation of Small Unmanned Aircraft Systems Over People; Delay of Effective Date; Correction

AGENCY: Federal Aviation Administration (FAA).

ACTION: Final rule; delay of effective; correction.

SUMMARY: In accordance with the memorandum of January 20, 2021, from the Assistant to the President and Chief of Staff, titled “Regulatory Freeze Pending Review,” the Agency delays the March 1, 2021 effective date of the final rule, Operation of Small Unmanned Aircraft Systems Over People, until March 16, 2021.

DATES: As of February 26, 2021, the March 1, 2021 effective date of the final rule published on January 15, 2021, at 86 FR 4314, is delayed to March 16, 2021. The corrections are effective March 16, 2021.

FOR FURTHER INFORMATION CONTACT: Michael Machnik, General Aviation and Commercial Division, Flight Standards Service, Federal Aviation Administration, 55 M Street SE, 8th Floor, Washington, DC 20003; telephone 1-844-FLY-MYUAS; email: UASHelp@faa.gov.

SUPPLEMENTARY INFORMATION:

Electronic Access and Filing

A copy of the notice of proposed rulemaking (NPRM) (84 FR 3856, Feb. 13, 2019), all comments received, the final rule, and all background material may be viewed online at http://www.regulations.gov using the docket number listed above. A copy of this final rule will also be placed in the docket. Electronic retrieval help and guidelines are available on the website. It is available 24 hours each day, 365 days each year. An electronic copy of this document may also be downloaded from the Office of the Federal Register's website at http://www.ofr.gov and the Government Publishing Office's website at http://www.gpo.gov.

Background

On January 20, 2021, the Assistant to the President and Chief of Staff issued a memorandum titled, “Regulatory Freeze Pending Review.” The memorandum requested that the heads of executive departments and agencies (agencies) take steps to ensure that the President's appointees or designees have the opportunity to review any new or pending rules. With respect to rules published in the Federal Register, but not yet effective, the memorandum asked that agencies consider postponing the rules' effective dates for 60 days from the date of the memorandum (i.e., March 21, 2021) for the purpose of reviewing any questions of fact, law, and policy the rules may raise.

In accordance with this direction, the Agency has decided to delay until March 16, 2021, the effective date of the final rule, Operation of Small Unmanned Aircraft Systems Over People (RIN 2120-AK85), including the amendments to §§ 107.61, 107.63, 107.65, 107.73, and 107.74. The final rule permits routine operations of small unmanned aircraft over people, moving vehicles, and at night under certain conditions. The final rule also makes changes to the recurrent testing framework and expands the list of persons who may request the presentation of a remote pilot certificate. The delay in the rule's effective date will afford the President's appointees or designees an opportunity to review the rule and will allow for consideration of any questions of fact, law, or policy that the rule may raise before it becomes effective.

Additionally, as a result of the delay in the effective date, several corrections are necessary. The compliance date for § 107.29(a)(1) regarding the operation of a small unmanned aircraft system at night must be corrected so that it does not precede the new effective date. Similarly, a correction to § 107.65(d) regarding the timing of passing the recurrent aeronautical knowledge test or satisfying training requirements must also be made to conform to the delayed effective date.

Waiver of Rulemaking and Delayed Effective Date

Under the Administrative Procedure Act (APA) (5 U.S.C. 553), the Agency generally offers interested parties the opportunity to comment on proposed regulations and publish rules not less than 30 days before their effective dates. However, the APA provides that an agency is not required to conduct notice-and-comment rulemaking or delay effective dates when the agency, for good cause, finds that the requirement is impracticable, unnecessary, or contrary to the public interest (5 U.S.C. 553(b)(B) and (d)(3)). There is good cause to waive both of these requirements here as they are impracticable. A delay in the effective date of the final rule, Operation of Small Unmanned Aircraft Systems Over People, is necessary for the President's appointees and designees to have adequate time to review the rule before it takes effect, and neither the notice and comment process nor the delayed effective date could be implemented in time to allow for this review.

Corrections

In FR Doc. 2020-28947 (86 FR 4314) published on January 15, 2021, the following corrections are made:

§ 107.29 [Corrected]

1. On page 4382, in the second column, in § 107.29, in paragraph (a)(1), the date “March 1, 2021” is corrected to read “March 16, 2021”.

§ 107.65 [Corrected]

2. On page 4383, in the first column, in § 107.65, in paragraph (d), the date “March 1, 2021” is corrected to read “March 16, 2021”.

Issued in Washington, DC, under the authority provided by 49 U.S.C. 106(f), 40101 note and 44807, on February 23, 2021.
Steve Dickson,
Administrator, Federal Aviation Administration.

[FR Doc. 2021-04093 Filed 2-24-21; 4:15 pm]

BILLING CODE 4910-13-P